DEPARTMENT OF THE TREASURY

Office of Foreign Assets Control

Notice of OFAC Sanctions Actions

AGENCY: Office of Foreign Assets Control, Treasury.

ACTION: Notice.

SUMMARY: The Department of the Treasury's Office of Foreign Assets Control (OFAC) is publishing the names of one or more persons that have been placed on OFAC's Specially Designated Nationals and Blocked Persons List based on OFAC's determination that one or more applicable legal criteria were satisfied. All property and interests in property subject to U.S. jurisdiction of these persons are blocked, and U.S. persons are generally prohibited from engaging in transactions with them.

DATES: See SUPPLEMENTARY INFORMATION section.

FOR FURTHER INFORMATION CONTACT: OFAC: Associate Director for Global Targeting, tel.: 202-622-2420; Assistant Director for Sanctions Compliance & Evaluation, tel.: 202-622-2490; Assistant Director for Licensing, tel.: 202-622-2480; Assistant Director for Regulatory Affairs, tel.: 202-622-4855; or the Department of the Treasury's Office of the General Counsel: Office of the Chief Counsel (Foreign Assets Control), tel.: 202-622-2410.

SUPPLEMENTARY INFORMATION:

Electronic Availability

The Specially Designated Nationals and Blocked Persons List and additional information concerning OFAC sanctions programs are available on OFAC's website (www.treasury.gov/ofac).

Notice of OFAC Action(s)

On March 21, 2019, OFAC determined that the property and interests in property subject to U.S. jurisdiction of the following persons are blocked under the relevant sanctions authority listed below.

Individuals

1. NANGAA, Corneille Yobeluo (a.k.a. YOBELUO, Corneille Nangaa), 36 Q Solongo Blvd., Biangala, Lemba, Kinshasa, Congo, Democratic Republic of the; DOB 09 Jul 1970; POB Bagboya, Congo, Democratic Republic of the; Gender Male; Passport DP0003850 (Congo, Democratic Republic of the) issued 20 Nov 2017 expires 19 Nov 2022; alt. Passport DP0000149 (Congo, Democratic Republic of the) issued 12 Jan 2016 expires 11 Jan 2021 (individual) [DRCONGO]

Designated pursuant to Section 1(a)(ii)(C) of E.O. 13671, for being responsible for or complicit in, or having engaged in, directly or indirectly, actions or policies that undermine democratic processes or institutions in the Democratic Republic of the Congo.

2. KATINTIMA, Norbert Basengezi (a.k.a. KATINTIMA, Norbert Bashengezi), 15 Joli Parc, Ma Campagne, Kinshasa 00243, Congo, Democratic Republic of the; DOB 10 Jan 1958; POB Kashiramo-Kaziba, South Kivu, Congo, Democratic Republic of the; alt. POB Rwanda; nationality Congo, Democratic Republic of the; alt. nationality Rwanda; Gender Male; Vice-President of the Independent National Electoral Commission (individual) [DRCONGO].

Designated pursuant to Section 1(a)(ii)(C) of E.O. 13671, for being responsible for or complicit in, or having engaged in, directly or indirectly, actions or policies that undermine democratic processes or institutions in the Democratic Republic of the Congo.

3. BASENGEZI, Marcellin (a.k.a. BASENGEZI, Marcellin Mukolo; a.k.a. MAKOLO, Marcelin Basengezi; a.k.a. MUKOLO, Basengezi Marcellin), Appartement 29 Cite Du Fleuve, Cite Du Fleuve, Kingabwa Limete, Kinshasa, Congo, Democratic Republic of the; DOB 30 Nov 1985; POB Kaziba, Congo, Democratic Republic of the; Gender Male; Passport OP0155187 (Congo, Democratic Republic of the) issued 24 Jan 2016 expires 19 Jan 2021 (individual) [DRCONGO].

Designated pursuant to Section 1(a)(ii)(C) of E.O. 13671, for being responsible for or complicit in, or having engaged in, directly or indirectly, actions or policies that undermine democratic processes or institutions in the Democratic Republic of the Congo.

Dated: March 21, 2019.
Bradley T. Smith,
Director, Office of Foreign Assets Control.

Editorial Note: This document was received by the Office of the Federal Register on June 24, 2019.

[FR Doc. 2019-13707 Filed 6-26-19; 8:45 am]

BILLING CODE 4810-AL-P